NUCLEAR REGULATORY COMMISSION

[NRC-2012-0002]

Notice of Sunshine Act Meeting

DATE: Weeks of March 26, April 2, 9, 16, 23, 30, 2012.

PLACE: Commissioners' Conference Room, 11555 Rockville Pike, Rockville, Maryland.

STATUS: Public and Closed.

Week of March 26, 2012

Tuesday, March 27, 2012

8:55 a.m. Affirmation Session (Public Meeting) (Tentative)

a. FirstEnergy Nuclear Operating Co. (Davis-Besse Nuclear Power Station, Unit 1), Appeal of LBP-11-13 (Apr. 26, 2011), Docket No. 50-346-LR (Tentative).

This meeting will be webcast live at the Web address— www.nrc.gov.

9 a.m. Briefing on License Renewal for Research and Test Reactors, (Public Meeting), (Contact: Jessie Quichocho, 301-415-0209).

This meeting will be webcast live at the Web address— www.nrc.gov.

Week of April 2, 2012—Tentative

Tuesday April 3, 2012

9:30 a.m. Meeting with Organization of Agreement States (OAS) and Conference of Radiation Control Program Directors (CRCPD), (Public Meeting), (Contact: Cindy Flannery, 301-415-0223).

This meeting will be webcast live at the Web address— www.nrc.gov.

Week of April 9, 2012—Tentative

Tuesday, April 10, 2012

9 a.m. Briefing on the Final Report of the Blue Ribbon Commission on America's Nuclear Future (Public Meeting), (Contact: Alicia Mullins, 301-492-3351).

This meeting will be webcast live at the Web address— www.nrc.gov.

Week of April 16, 2012—Tentative

There are no meetings scheduled for the week of April 16, 2012.

Week of April 23, 2012—Tentative

Tuesday, April 24, 2012

9 a.m. Briefing on Part 35 Medical Events Definitions—Permanent Implant Brachytherapy (Public Meeting), (Contact: Michael Fuller, 301-415-0520).

This meeting will be webcast live at the Web address— www.nrc.gov.

Week of April 30, 2012—Tentative

Monday, April 30, 2012

9:30 a.m. Briefing on Human Capital and Equal Employment Opportunity, (EEO) (Public Meeting) (Contact: Kristin Davis, 301-492-2208).

This meeting will be webcast live at the Web address— www.nrc.gov.

* * * * *

*The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: March 22, 2012.
Rochelle C. Bavol,
Policy Coordinator, Office of the Secretary.

[FR Doc. 2012-7435 Filed 3-23-12; 4:15 pm]

BILLING CODE 7590-01-P